DEPARTMENT OF COMMERCE

International Trade Administration

[A-570-867]

Antidumping Duty Order: Automotive Replacement Glass Windshields from the People's Republic of China.

AGENCY: Import Administration, International Trade Administration, Department of Commerce.

ACTION: Notice of antidumping duty order.

DATES: April 4, 2002.

FOR FURTHER INFORMATION CONTACT: FOR FURTHER INFORMATION CONTACT: Stephen Bailey and Brandon Farlander at 202-482-1102 and 202-482-0182 respectively, Import Administration, International Trade Administration, U.S. Department of Commerce, 1401 Constitution Avenue, N.W., Washington, DC 20230.

Applicable Statute and Regulations

Unless otherwise indicated, all citations to the Tariff Act of 1930, as amended (“Act”), are references to the provisions effective January 1, 1995, the effective date of the amendments made to the Act by the Uruguay Round Agreements Act. In addition, unless otherwise indicated, all citations to the Department's regulations are to the regulations at 19 C.F.R. part 351 (2001).

SUPPLEMENTARY INFORMATION:

Background

On February 12, 2002, the Department issued its final determination in the antidumping duty investigation of automotive replacement glass (“ARG”) windshields from the People's Republic of China (“PRC”). See Notice of Final Determination of Sales at Less Than Fair Value: Certain Automotive Replacement Glass Windshields from the People's Republic of China, 67 FR 6482 (February 12, 2002). On March 6, 2002, the Department issued its amended final determination in the antidumping duty investigation of ARG windshields from the PRC. See Notice of Amended Final Determination of Sales at Less Than Fair Value: Certain Automotive Replacement Glass Windshields from the People's Republic of China, 67 FR 11670 (March 15, 2002) (Amended Final Determination). In the Amended Final Determination, the Department amended the weight-average margins for Fuyao Glass Industry Group Company, Ltd. (“FYG”), Xinyi Automotive Glass (Shenzhen) Co., Ltd. (“Xinyi”), Shenzhen Benxun Auto-Glass Co., Ltd. (“Benxun”), Changchun Pilkington Safety Glass Co., Ltd. (“Changchun”), Guilin Pilkington Safety Glass Co., Ltd. (“Guilin”), Wuhan Yaohua Pilkington Safety Glass Co., Ltd. (“Wuhan”), and TCG International (“TCGI”).

On March 21, 2002, the International Trade Commission notified the Department of its final determination pursuant to section 735(b)(1)(A)(i) of the Act that an industry in the United States is materially injured by reason of less-than-fair-value imports of ARG windshields from the PRC.

Scope of the Investigation

The products covered by this investigation are ARG windshields, and parts thereof, whether clear or tinted, whether coated or not, and whether or not they include antennas, ceramics, mirror buttons or VIN notches, and whether or not they are encapsulated. ARG windshields are laminated safety glass (i.e., two layers of (typically float) glass with a sheet of clear or tinted plastic in between (usually polyvinyl butyral)), which are produced and sold for use by automotive glass installation shops to replace windshields in automotive vehicles (e.g., passenger cars, light trucks, vans, sport utility vehicles, etc.) that are cracked, broken or otherwise damaged.

ARG windshields subject to this investigation are currently classifiable under subheading 7007.21.10.10 of the Harmonized Tariff Schedules of the United States (HTSUS). Specifically excluded from the scope of this investigation are laminated automotive windshields sold for use in original assembly of vehicles. While HTSUS subheadings are provided for convenience and Customs purposes, our written description of the scope of this investigation is dispositive.

Antidumping Duty Order

In accordance with section 736(a)(1) of the Act, the Department is directing Customs officers to assess, upon further advice by the Department, antidumping duties equal to the amount by which the normal value of the merchandise exceeds the export price (or constructed export price) of the merchandise for all relevant entries of ARG windshields from the PRC. The antidumping duties will be assessed on all unliquidated entries of ARG windshields from the PRC entered, or withdrawn from warehouse, for consumption on or after September 19, 2001, the date on which the Department published its notice of preliminary determination in the Federal Register. See Notice of Preliminary Determination of Sales at Less Than Fair Value: Certain Automotive Replacement Glass Windshields from the People's Republic of China, 66 FR 48233 (September 19, 2001). On or after the date of publication of this notice in the Federal Register, customs officers must require, at the same time as importers would normally deposit estimated duties on this merchandise, a cash deposit equal to the estimated weighted-average dumping margins as noted below. The “All Others” rate applies to all exporters of subject merchandise from the PRC. The weighted-average dumping margins are as follows:

Automotive Replacement Glass Windshields
Producer/Manufacturer/Exporter | Weighted-Average Margin
FYG | 11.80%
Xinyi | 3.71%
Benxun | 9.84%
Changchun | 9.84%
Guilin | 9.84%
Wuhan | 9.84%
TCGI | 9.84%
China-Wide | 124.50%

This notice constitutes the antidumping duty order with respect to ARG windshields from the PRC. Interested parties may contact the Department's Central Records Unit, room B-099 of the main Department of Commerce building, for copies of an updated list of antidumping duty orders currently in effect.

This order is published in accordance with section 736(a) of the Act.

Dated: March 29, 2002
Faryar Shirzad,
Assistant Secretary for Import Administration.

[FR Doc. 02-8166 Filed 4-3-02; 8:45 am]

BILLING CODE 3510-DS-S